ENVIRONMENTAL PROTECTION AGENCY

[FRL-OW-FRL-8715-3]

Revision of National Recommended Water Quality Criteria for Acrolein and Phenol

AGENCY: Environmental Protection Agency (EPA).

ACTION: Notice of availability of updated draft criteria and request for scientific views.

SUMMARY: Pursuant to section 304(a) of the Clean Water Act (CWA), the Environmental Protection Agency (EPA) is announcing the revision and availability of draft updated national recommended water quality criteria for the protection of human health for acrolein and phenol. The draft criteria are partial updates based on EPA's Methodology for Deriving Ambient Water Quality Criteria for the Protection of Human Health (2000), EPA-822-B-00-004 (2000 Human Health Methodology) and will supersede previously published criteria when final. EPA's recommended section 304(a) water quality criteria provide guidance to States and authorized Tribes in adopting water quality standards for protecting human health and provide guidance to EPA for promulgating Federal regulations under CWA section 303(c), when such action is necessary.

DATES: Scientific views must be received on or before October 30, 2008. Comments postmarked after this date may not be considered.

ADDRESSES: Submit your scientific views, identified by Docket ID No. EPA-HQ-OW-2008-0553, by one of the following methods:

• http://www.regulations.gov: Follow the on-line instructions for submitting comments.

• E-mail: OW-Docket@epa.gov.

• Mail: U.S. Environmental Protection Agency; EPA Docket Center (EPA/DC) Water Docket, MC 2822T; 1200 Pennsylvania Avenue, NW., Washington, DC 20460.

• Hand Delivery: EPA Docket Center, 1301 Constitution Ave., NW., EPA West, Room 3334, Washington, DC. Such deliveries are only accepted during the Docket's normal hours of operation, and special arrangements should be made for deliveries of boxed information.

Instructions: Direct your comments to Docket ID No. EPA-HQ-OW-2008-0553. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Office of Water Docket/EPA/DC, 1301 Constitution Ave., NW., EPA West, Room 3334, Washington, DC. This Docket Facility is open from 8:30 a.m. until 4:30 p.m., EST, Monday through Friday, excluding legal holidays. The telephone number for the Public Reading Room is (202) 566-1744, and the telephone number for the Office of Water is (202) 566-2426.

FOR FURTHER INFORMATION CONTACT: Heidi L. Bethel, Health and Ecological Criteria Division (4304T), U.S. EPA, 1200 Pennsylvania Ave., NW., Washington, DC 20460; (202) 566-2054; bethel.heidi@epa.gov.

SUPPLEMENTARY INFORMATION:

I. What Are Water Quality Criteria?

Water quality criteria are scientifically derived numeric values that protect aquatic life or human health from the deleterious effects of pollutants in ambient water.

Section 304(a)(1) of the Clean Water Act requires EPA to develop and publish and, from time to time, revise, criteria for water quality accurately reflecting the latest scientific knowledge. Water quality criteria developed under section 304(a) are based solely on data and scientific judgments on the relationship between pollutant concentrations and environmental and human health effects. Section 304(a) criteria do not reflect consideration of economic impacts or the technological feasibility of meeting the chemical concentrations in ambient water.

Section 304(a) criteria provide guidance to States and authorized Tribes in adopting water quality standards that ultimately provide a basis for controlling discharges or releases of pollutants. The criteria also provide guidance to EPA when promulgating federal regulations under section 303(c) when such action is necessary. Under the CWA and its implementing regulations, States and authorized Tribes are to adopt water quality criteria to protect designated uses (e.g., public water supply, recreational use, industrial use). EPA's recommended human health water quality criteria do not substitute for the CWA or regulations, nor are they regulations themselves. Thus, EPA's recommended criteria do not impose legally binding requirements. States and authorized Tribes have the discretion to adopt, where appropriate, other scientifically defensible water quality standards that differ from these recommendations.

II. What Are the Criteria Revisions?

EPA is today publishing an update of national recommended water quality criteria (NRWQC) for protecting human health for acrolein and phenol. These draft revisions are based on EPA's Methodology for Deriving Ambient Water Quality Criteria for the Protection of Human Health (2000), EPA-822-B-00-004 (2000 Human Health Methodology). This methodology describes the Agency's current approach for deriving national recommended water quality criteria to protect human health.

The draft revision of these criteria represents a partial update of the 304(a) criteria as described in both the draft Methodology revisions and the Federal Register Notice that accompanied the 2000 Human Health Methodology (65 FR 66444; November 3, 2000). EPA believes that updating a limited number of components for which there are available data or improved science (i.e., a partial update) is a reasonable and efficient means of publishing revised 304(a) criteria more frequently. EPA has also previously described its process for publishing revised criteria [see National Recommended Water Quality Criteria; Notice; Republication (63 FR 68354; December 10, 1998 or EPA 822-Z-99-001) and National Recommended Water Quality Criteria; Notice; Republication; Correction (64 FR 19781; April 22, 1999) or the Federal Register Notice for the 2000 Methodology]. EPA indicated that when making minor revisions to existing criteria based on new information pertaining to individual components of the criteria, it would typically publish the recalculated criteria directly as the Agency's national recommended water quality criteria.

The draft criteria for acrolein and phenol are being updated with reference dose (RfD) values from EPA's Integrated Risk Information System (IRIS) (http://www.epa.gov/iris). Because recalculation of these two criteria results in significant changes, EPA is publishing them in today's Notice in order to solicit scientific views. However, EPA does not intend to subject this recalculation to additional peer review because the IRIS reference doses being updated in this draft partial criteria update have been previously peer reviewed.

Tables 1 and 2 below containing the current and updated draft criteria for acrolein and phenol were prepared to assist reviewers. The RfD values used to derive the respective criteria values are also included in Tables 1 and 2 below.

Table 1—Updated Draft Criteria for Acrolein
Acrolein | Current criteria | Updated draft criteria
IRIS RfD | 0.0156 mg/(kg-d) (published 1977) | 0.0005 mg/(kg-d) (published 6/03) (http://www.epa.gov/ncea/iris/subst/0364.htm).
Water + Organisms | 190 μg/l | 6 μg/l
Organisms Only | 290 μg/l | 9 μg/l.

Table 2—Updated Draft Criteria for Phenol
Phenol | Current criteria | Updated draft criteria
IRIS RfD | 0.60 mg/(kg-d) (published 2/90) | 0.30 mg/(kg-d) (published 9/02) (http://www.epa.gov/ncea/iris/subst/0088.htm).
Water + Organisms | 20,700 μg/l | 10,400 μg/l.
Organisms Only | 1,700,000 μg/l | 857,000 μg/l.

EPA decided to revise the existing criteria based on partially updated components of the criteria equations in order to increase the frequency of scientific improvements to the nationally recommended criteria using acceptable, currently-available information. For a water quality criterion revision based on a partial update to be considered acceptable to EPA, a component of the criterion (e.g., the toxicological risk assessment) should be comprehensive (e.g., a new or revised reference dose (RfD)) or cancer dose-response assessment, as opposed to simply a new scaling factor), stand alone, and be based on new national or local data. The criteria for phenol and acrolein are being updated with more recent reference doses available from EPA's Integrated Risk Information System (IRIS). IRIS is an electronic data base maintained by the EPA that provides chemical-specific risk information on the relationship between chemical exposures and estimated human health effects. Risk assessment information contained in IRIS, except as specifically noted, has been reviewed and agreed upon by an interdisciplinary group of scientists representing various Program Offices within the Agency and represents Agency-wide consensus. Therefore, updated IRIS values reflect the most current Agency science and should be used by States and Tribes in updating or developing new human health criteria. The Office of Science and Technology will publish these partial updates of water quality criteria via their Water Science Web Site (http://www.epa.gov/waterscience).

IV. What Is the Relationship Between the Water Quality Criteria and Your State or Tribal Water Quality Standards?

As part of the water quality standards triennial review process defined in Section 303(c)(1) of the CWA, the States and authorized Tribes are responsible for maintaining and revising water quality standards. Water quality standards consist of designated uses, water quality criteria to protect those uses, a policy for antidegradation, and general policies for application and implementation. Section 303(c)(1) requires States and authorized Tribes to review and modify, if appropriate, their water quality standards at least once every three years.

States and authorized Tribes must adopt water quality criteria that protect designated uses. Protective criteria are based on a sound scientific rationale and contain sufficient parameters or constituents to protect the designated uses.

Consistent with 40 CFR131.21 [see: EPA Review and Approval of State and Tribal Water Quality Standards (65 FR 24641, April 27, 2000)], water quality criteria adopted by law or regulation by States and authorized Tribes prior to May 30, 2000, are in effect for CWA purposes unless superseded by federal regulations (see, for example, the National Toxics Rule, 40 CFR 131.36; Water Quality Standards for Idaho, 40 CFR 131.33). New or revised water quality criteria adopted into law or regulation by States and authorized Tribes on or after May 30, 2000 are in effect for CWA purposes only after EPA approval.

V. What Is the Status of Existing Recommended Criteria While They Are Under Revision?

Water quality criteria published by EPA remain the Agency's recommended water quality criteria until EPA revises or withdraws the criteria. The current criteria for acrolein and phenol will remain in effect until EPA publishes the updated criteria.

VI. Where Can I Find More Information About Water Quality Criteria and Water Quality Standards?

For more information about water quality criteria and Water Quality Standards refer to the following: Water Quality Standards Handbook (EPA 823-B94-005a); Advanced Notice of Proposed Rule Making (ANPRM), (63 FR 36742); Water Quality Criteria and Standards Plan—Priorities for the Future (EPA 822-R-98-003); Guidelines and Methodologies Used in the Preparation of Health Effects Assessment Chapters of the Consent Decree Water Criteria Documents (45 FR 79347); Methodology for Deriving Ambient Water Quality Criteria for the Protection of Human Health (2000), (EPA-822-B-00-004); Guidelines for Deriving Numerical National Water Quality Criteria for the Protection of Aquatic Organisms and Their Uses (EPA 822/R-85-100); National Strategy for the Development of Regional Nutrient Criteria (EPA 822-R-98-002); and EPA Review and Approval of State and Tribal Water Quality Standards (65 FR 24641).

You can find these publications through EPA's National Service Center for Environmental Publications (NSCEP, previously NCEPI) or on the Office of Science and Technology's Home-page (http://www.epa.gov/waterscience).

Dated: August 28, 2008.
Ephraim S. King,
Director, Office of Science and Technology.

[FR Doc. E8-21460 Filed 9-12-08; 8:45 am]

BILLING CODE 6560-50-P